DEPARTMENT OF HOUSING AND URBAN DEVELOPMENT

[Docket No. FR-4644-N-19]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street, SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, 441 G Street, Washington, DC 20314-1000; (202) 761-7425; DOT: Mr. Rugene Spruill, Space Management, SVC-140, Transportation Administrative Service Center, Department of Transportation, 400 7th Street, SW Room 2310, Washington, DC 20590; (202) 366-4246; GSA: Mr. Brian K. Polly, Assistant Commissioner, General Services Administration, Office of Property Disposal, 18th and F Streets, NW, Washington, DC 20405; (202) 501-0052; INTERIOR: Ms. Linda Tribby, Acquisition & Property Management, Department of the Interior, 1849 C Street, NW, Washington, DC 20240; (202) 606-3139; NAVY: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: May 3, 2001.
John D. Garrity,
Director, Office of Special Needs Assistance Programs.

Title V, Federal Surplus Property Program Federal Register Report for 5/11/01

Suitable/Available Properties

Buildings (by State)

Alabama

Federal Bldg.

301 Third Ave.

Cullman Co: AL 35055-

Landholding Agency: GSA

Property Number: 54200120005

Status: Excess

Comment: 30,887 sq. ft., 2-story, most recent use—office

GSA Number: 4-G-AL-769

California

Bldg. 01290

Naval Air Weapons Station

China Lake Co: CA 93555-6100

Landholding Agency: Navy

Property Number: 77200120090

Status: Excess

Comment: 460 sq. ft., most recent use—garage, off-site use only

South Dakota

Residence, Tract 102

Oahe Dam Project

915 South Garfield Ave.

Pierre Co: Hughes SD 57501-

Landholding Agency: COE

Property Number: 31200120004

Status: Excess

Comment: 1008 sq. ft., wood frame, attached two-car garage, off-site use only

Residence, Tract 105

Oahe Dam Project

916 South Arthur

Pierre Co: Hughes SD 57501-

Landholding Agency: COE

Property Number: 31200120005

Status: Excess

Comment: 1008 sq. ft., wood frame, no garage, off-site use only

Residence, Tract 113

Oahe Dam Project

1005 South Garfield

Pierre Co: Hughes SD 57501-

Landholding Agency: COE

Property Number: 31200120006

Status: Excess

Comment: 1232 sq. ft., wood frame, attached one-car garage, off-site use only

Residence, Tract 119

Oahe Dam Project

1013 Memory Lane

Pierre Co: Hughes SD 57501-

Landholding Agency: COE

Property Number: 31200120007

Status: Excess

Comment: 936 sq. ft., wood frame, attached two-car garage, off-site use only

Residence, Tract 123

Oahe Dam Project

1001 South Garfield

Pierre Co: Hughes SD 57501-

Landholding Agency: COE

Property Number: 31200120008

Status: Excess

Comment: 816 sq. ft., wood frame, attached two-car garage, off-site use only

Residence, Tract 124

Oahe Dam Project

1009 South Primrose Lane

Pierre Co: Hughes SD 57501-

Landholding Agency: COE

Property Number: 31200120009

Status: Excess

Comment: 996 sq. ft., wood frame, attached one-car port, off-site use only

Residence, Tract 132

Oahe Dam Project

2401 E. Reen

Pierre Co: Hughes SD 57501-

Landholding Agency: COE

Property Number: 31200120010

Status: Excess

Comment: 1536 sq. ft., wood frame, attached two-car garage, off-site use only

Residence, Tract 200

Oahe Dam Project

1013 South Cleveland

Pierre Co: Hughes SD 57501-

Landholding Agency: COE

Property Number: 31200120011

Status: Excess

Comment: 960 sq. ft., wood frame, attached 2½ car garage, off-site use only

Washington

Bldg. 31

440 Yule Road

Yakima Co: WA 98908-

Landholding Agency: Interior

Property Number: 61200120019

Status: Excess

Comment: 1065 sq. ft., needs rehab, presence of lead paint, most recent use—residence, off-site use only

Bldg. 37

474 Camp 4 Road

Yakima Co: WA 98908-

Landholding Agency: Interior

Property Number: 61200120020

Status: Excess

Comment: 932 sq. ft., needs rehab, presence of lead paint, most recent use—residence, off-site use only

Bldg. 38

476 Camp 4 Road

Yakima Co: WA 98908-

Landholding Agency: Interior

Property Number: 61200120021

Status: Excess

Comment: 1152 sq. ft., needs rehab, presence of lead paint, most recent use—residence, off-site use only

Unsuitable Properties

Buildings (by State)

Alaska

Barracks

LORAN Station

Sitkinak Island Co: AK

Landholding Agency: DOT

Property Number: 87200120007

Status: Unutilized

Reasons: Within 2000 ft. of flammable or explosive material; Floodway; Extensive deterioration

Incinerator Bldg.

LORAN Station

Sitkinak Island Co: AK

Landholding Agency: DOT

Property Number: 87200120008

Status: Unutilized

Reasons: Within 2000 ft. of flammable or explosive material; Floodway; Extensive deterioration

Signal/Power Bldg.

LORAN Station

Sitkinak Island Co: AK

Landholding Agency: DOT

Property Number: 87200120009

Status: Unutilized

Reasons: Within 2000 ft. of flammable or explosive material; Floodway; Extensive deterioration

Transmitter Bldg.

LORAN Station

Sitkinak Island Co: AK

Landholding Agency: DOT

Property Number: 87299120010

Status: Unutilized

Reasons: Within 2000 ft. of flammable or explosive material; Floodway; Extensive deterioration

Waste Water Treatment Bldg.

LORAN Station

Sitkinak Island Co: AK

Landholding Agency: DOT

Property Number: 87299120011

Status: Unutilized

Reasons: Within 2000 ft. of flammable or explosive material; Floodway; Extensive deterioration

California

Bldg. 01289

Naval Air Weapons Station

China Lake Co: CA 93555-6100

Landholding Agency: Navy

Property Number: 77200120089

Status: Excess

Reason: Extensive deterioration

Bldg. PM1529

Point Mugu, Naval Base

Oxnard Co: Ventura CA 93042-5001

Landholding Agency: Navy

Property Number: 77200120094

Status: Unutilized

Reason: Extensive deterioration

Bldg. PM1606

Point Mugu, Naval Base

Oxnard Co: Ventura CA 93042-5001

Landholding Agency: Navy

Property Number: 77200120095

Status: Unutilized

Reason: Extensive deterioration

Guam

Bldg. 123

U.S. Naval Forces

Marianas Co: Comm. Annex GU 96540-0051

Landholding Agency: Navy

Property Number: 77200120091

Status: Unutilized

Reason: Secured Area

Bldg. 124

U.S. Naval Forces

Marianas Co: Comm. Annex GU 96540-0051

Landholding Agency: Navy

Property Number: 77200120092

Status: Unutilized

Reason: Secured Area

Bldg. 135

U.S. Naval Forces

Marianas Co: Comm. Annex GU 96540-0051

Landholding Agency: Navy

Property Number: 77200120093

Status: Unutilized

Reason: Secured Area

Missouri

Privy/Nemo Park

Pomme de Terre Lake

Hermitage Co: MO 65668-

Landholding Agency: COE

Property Number: 31200120001

Status: Excess

Reason: Extensive deterioration.

Privy No. 1/Bolivar Park

Pomme de Terre Lake

Hermitage Co: MO 65668-

Landholding Agency: COE

Property Number: 31200120002

Status: Excess

Reason: Extensive deterioration.

Privy No. 2/Bolivar Park

Pomme de Terre Lake

Hermitage Co: MO 65668-

Landholding Agency: Coe

Property Number: 31200120003

Status: Excess

Reason: Extensive deterioration

[FR Doc. 01-11527 Filed 5-10-01; 8:45 am]

BILLING CODE 4210-29-M